FEDERAL COMMUNICATIONS COMMISSION

47 CFR Parts 1, 17, 22, 24, 25, 27, 80, 87, and 90

[WT Docket Nos. 08-61 and 03-187; FCC 11-181]

National Environmental Policy Act Compliance for Proposed Tower Registrations; Effects of Communications Towers on Migratory Birds

AGENCY: Federal Communications Commission.

ACTION: Final rule; announcement of effective date.

SUMMARY: In this document, the Commission announces that the Office of Management and Budget (OMB) has approved, for a period of three years, the information collections associated with the Commission's Migratory Bird Order on Remand (Order). This document is consistent with the Order, which stated that the rules will become effective upon Commission publication of a document in the Federal Register announcing their approval by OMB.

DATES: The rules amending 47 CFR Parts 1, 17, 22, 24, 25, 27, 80, 87, and 90 published at 77 FR 3935, January 26, 2012, are effective June 18, 2012.

FOR FURTHER INFORMATION CONTACT: Judith B. Herman, Federal Communications Commission, at (202) 418-0214 or via the Internet at Judith-B.Herman@fcc.gov.

SUPPLEMENTARY INFORMATION: This document announces that, on April 27, 2011, OMB approved, for a period of three years, the revised information collections associated with the Commission's Order, FCC 11-181, published at 77 FR 3935, January 26, 2012. The OMB Control Numbers are 3060-0139 and 3060-0798. The Commission publishes this document as an announcement of the effective date of the rules.

Synopsis

As required by the Paperwork Reduction Act of 1995 (44 U.S.C. 3507), the FCC is notifying the public that it received OMB approval on April 27, 2012, for the revised information collections required by modifications to the Commission's rules in 47 CFR Parts 1, 17, 22, 24, 25, 27, 80, 87, and 90.

Under 5 CFR 1320, an agency may not conduct or sponsor a collection of information unless it displays a current, valid OMB Control Number. No person shall be subject to any penalty for failing to comply with a collection of information subject to the Paperwork Reduction Act that does not display a current, valid OMB Control Number. The OMB Control Numbers for the revised collections are 3060-0139 and 3060-0798. The foregoing notice is required by the Paperwork Reduction Act of 1995, Public Law 104-13, October 1, 1995, and 44 U.S.C. 3507.

The total annual reporting burdens and costs for the respondents are as follows:

OMB Control Number: 3060-0139.

OMB Approval Date: April 27, 2012.

OMB Expiration Date: April 30, 2015.

Title: Application for Antenna Structure Registration, FCC Form 854.

Form Number: FCC Form 854. Respondents: Individuals or households; Business or other for-profit; Not-for-profit institutions; and State, Local, or Tribal Government.

Number of Respondents and Responses: 2,500 respondents; 47,500 responses.

Estimated Time per Response: .5 hour.

Frequency of Response: On occasion reporting requirement, recordkeeping requirement.

Obligation to Respond: Required to obtain or retain benefits.

Total Annual Burden: 21,345.

Total Annual Cost: $975,725.

Nature and Extent of Confidentiality: Respondents may request materials or information submitted to the Commission be withheld from public inspection under 47 CFR 0.459 of the Commission's rules.

Needs and Uses: The purpose of FCC Form 854 is to register antenna structures (radio towers) that are used for wire or radio communication services which are regulated by the Commission; to make changes to existing registered antenna structures or pending applications for registration; and to notify the Commission of the completion of construction or dismantlement of such structures, as required by Title 47 of the Code of Federal Regulations, Chapter 1, Part 17. The Commission has revised Form 854 in accordance with the rule changes in the Migratory Bird Order on Remand, WTB Dockets 08-61 and 03-187, by adding questions that will facilitate the pre-application notification process. In addition, Form 854 is being revised to include several administrative questions that will enable the Commission to more efficiently process antenna structure registrations. The additional questions relate to replacement towers; requirements to post local and national notice so that the public may have a meaningful opportunity to comment on the environmental effects of a proposed structure that requires registration; determining if the structure is located on federal land; allowing the applicant to select the type of painting and/or lighting it will utilize on the structure being registered; and collecting additional administrative information such as the type of entity that owns the structure, Fax number, and county and zip code in which the structure is to be located.

OMB Control Number: 3060-0798.

OMB Approval Date: April 27, 2012.

OMB Expiration Date: April 30, 2015.

Title: FCC Application for Radio Service Authorization: WTB and PSHSB.

Form Number: FCC Form 601.

Respondents: Individuals or households; Business or other for-profit; Not-for-profit institutions; and State, Local, or Tribal Government.

Number of Responses: 253,120.

Estimated Time per Response: 1.25 hour.

Frequency of Response: On occasion reporting requirement, third party disclosure requirement, Record Keeping & Other—10 year.

Obligation to Respond: Required to obtain or retain benefits.

Total Annual Burden: 221,780.

Total Annual Cost: $55,410,000.

Nature and Extent of Confidentiality: In general there is no need for confidentiality. On a case by case basis, the Commission may be required to withhold from disclosure certain information about the location, character, or ownership of a historic property, including traditional religious sites.

Needs and Uses: FCC Form 601 is a consolidated, multi-part application form, or “long form,” that is used for general market-based licensing and site-by-site licensing for wireless telecommunications and public safety services filed through the Commission's Universal Licensing System (ULS). FCC Form 601 is composed of a main form that contains the administrative information and a series of schedules used for filing technical and other information. The Commission has revised FCC Form 601, Schedules D, I and M, to allow respondents the option to provide a File Number for a pending Antenna Structure Registration (ASR) application. Previously ULS would only accept a granted ASR registration number. This change has been made to allow applicants to file an FCC Form 601 application while the ASR application is going through the new environmental notice process as required by the Migratory Bird Order on Remand, WTB Dockets 08-61 and 03-187. The entries for structure type are changing as a result of the Order as well. There is no change to the number of respondents, burden or cost.

Federal Communications Commission.
Marlene H. Dortch,
Secretary.

[FR Doc. 2012-13610 Filed 6-15-12; 8:45 am]

BILLING CODE 6712-01-P